DEPARTMENT OF HEALTH AND HUMAN SERVICES

Office of the Secretary

Agency Information Collection Activities: Submission for OMB Review; Comment Request

The Department of Health and Human Services, Office of the Secretary publishes a list of information collections it has submitted to the Office of Management and Budget (OMB) for clearance in compliance with the Paperwork Reduction Act of 1995 (44 U.S.C. Chapter 35) and 5 CFR 1320.5. The following are those information collections recently submitted to OMB.

1. Uniform Relocation and Real Property Acquisition under Federal and Federally-assisted Programs (45 CFR part 15)—0900-0150—Extension—HHS has adopted standard government-wide regulations on acquisition of real property and relocation of persons thereby displaced. Federal agencies and State and local governments must maintain records of their displacement activities sufficient to demonstrate compliance with these regulations. Respondents: State or local governments; Annual Number of Respondents: one; Frequency of Response; once; Burden: one hour.

2. HHS Acquisition Regulations: HHSAR Section 352.270-9 and Section 352.223-70—0990-0128—Revision—This clearance request addresses reporting and recordkeeping requirements for acquisitions involving care of laboratory animals (Section 352.270-9) or safety and health (Section 352.223-70) Burden Information for Section 352.270-9—Annual Number of Respondents; 63; Burden Per Response: 10 hours; Annual Frequency of Response: one time; Annual Burden for Section 352.270-9; 630 hours—Burden Information for Section 352.223-70—Annual Number of Respondents: 59; Frequency of Response: one time; Burden Per Response: 8 hours; Annual Burden for Section 352.223-70; 472 hours. Total Burden for 0900-0128: 1,102 hours. OMB Desk Officer: Allison Eydt.

Copies of the information collection packages listed above can be obtained by calling the OS Reports Clearance Officer on (202) 690-6207. Written comments and recommendations for the proposed information collection should be sent directly to the OMB desk officer designated above at the following address: Human Resources and Housing Branch, Office of Management and Budget, New Executive Office Building, Room 10235, 725 17th Street NW., Washington, DC 20503.

Comments may also be sent to Cynthia Agens Bauer, OS Reports Clearance Officer, Room 503H, Humphrey Building, 200 Independence Avenue SW., Washington DC, 20201. Written comments should be received within 30 days of this notice.

Dated: February 13, 2001.
Kerry Weems,
Acting Deputy Assistant Secretary, Budget.

[FR Doc. 01-4927 Filed 3-2-01; 8:45 am]

BILLING CODE 4150-24-M